DEPARTMENT OF LABOR

Mine Safety and Health Administration

[OMB Control No. 1219-0NEW]

Proposed Extension of Information Collection; Performance Reports for MSHA Grants

AGENCY: Mine Safety and Health Administration, Labor.

ACTION: Request for public comments.

SUMMARY: The Department of Labor, as part of its continuing effort to reduce paperwork and respondent burden, conducts a pre-clearance consultation program to provide the general public and Federal agencies with an opportunity to comment on proposed collections of information in accordance with the Paperwork Reduction Act of 1995, 44 U.S.C. 3506(c)(2)(A). This program helps to assure that requested data can be provided in the desired format, reporting burden (time and financial resources) is minimized, collection instruments are clearly understood, and the impact of collection requirements on respondents can be properly assessed. Currently, the Mine Safety and Health Administration (MSHA) is soliciting comments on the information collection for Performance Reports for MSHA Grants.

DATES: All comments must be received on or before August 11, 2017.

ADDRESSES: Comments concerning the information collection requirements of this notice may be sent by any of the methods listed below.

• Federal E-Rulemaking Portal: http://www.regulations.gov. Follow the on-line instructions for submitting comments for docket number MSHA-2017-0007.

• Regular Mail: Send comments to USDOL—MSHA, Office of Standards, Regulations, and Variances, 201 12th Street South, Suite 4E401, Arlington, VA 22202-5452.

• Hand Delivery: USDOL—Mine Safety and Health Administration, 201 12th Street South, Suite 4E401, Arlington, VA 22202-5452. Sign in at the receptionist's desk on the 4th floor via the East elevator.

FOR FURTHER INFORMATION CONTACT: Sheila McConnell, Director, Office of Standards, Regulations, and Variances, MSHA, at MSHA.information.collections@dol.gov (email); 202-693-9440 (voice); or 202-693-9441 (facsimile).

SUPPLEMENTARY INFORMATION:

I. Background

Section 103(h) of the Federal Mine Safety and Health Act of 1977 (Mine Act), 30 U.S.C. 813(h), authorizes MSHA to collect information necessary to carry out its duty in protecting the safety and health of miners. Further, Sec. 101(a) of the Mine Act, 30 U.S.C. 811 authorizes the Secretary of Labor to develop, promulgate, and revise as may be appropriate, improved mandatory health or safety standards for the protection of life and prevention of injuries in coal and metal and nonmetal mines.

MSHA is requesting approval of a new information collection for narrative reporting of grant requirements. One of MSHA's strategic goals is to “improve workplace safety and health” through the strategic objective “secure safe and healthy workplaces, particularly in high-risk industries.” MSHA's goal in accomplishing this objective is to “prevent death, disease, and injury from mining and promote safe and healthful workplaces for the Nation's miners.” Sec. 115 of the Mine Act, as amended, requires mine operators to have a health and safety training program. Under Sec. 503 of the Mine Act, as amended, the Secretary may award grants to States to assist in developing and enforcing State mining laws and regulations, to improve State workers' compensation and mining occupational disease laws and programs, and to improve safety and health conditions in the Nation's mines through Federal-State coordination and cooperation.

Therefore, MSHA seeks the Office of Management and Budget's (OMB) clearance of the information collections the Department of Labor (DOL) requires to carry out its grant program through MSHA. This information collection covers the performance reporting for MSHA for Narrative Reports. MSHA is seeking to transfer its DOL-approved burden on the Narrative Reports under OMB No. 1225-0086 to an MSHA information collection.

Grantees are required by DOL regulations to submit project and final reports, as described below. Grantees are also required to submit final reports no later than 90 days after the end of the grant period.

Technical Project Reports: A grantee submits a technical project report to MSHA no later than 30 days after quarterly deadlines. Technical project reports provide both quantitative and qualitative information and a narrative assessment of performance for the preceding three-month period. This includes the current grant progress against the overall grant goals. Between reporting dates, the grantee informs MSHA of significant developments or problems affecting the organization's ability to accomplish the work.

Final Reports: At the end of the grant period, each grantee provides a project summary of its technical project reports, an evaluation report, and a close-out financial report. These final reports are due no later than 90 days after the end of the 12-month performance period.

II. Desired Focus of Comments

MSHA is soliciting comments concerning the proposed information collection related to Performance Reports for MSHA Grants. MSHA is particularly interested in comments that:

• Evaluate whether the collection of information is necessary for the proper performance of the functions of the agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on http://www.regulations.gov. MSHA cautions the commenter against providing any information in the submission that should not be publicly disclosed. Full comments, including personal information provided, will be made available on www.regulations.gov and www.reginfo.gov.

The public may also examine publicly available documents at USDOL—Mine Safety and Health Administration, 201 12th South, Suite 4E401, Arlington, VA 22202-5452. Sign in at the receptionist's desk on the 4th floor via the East elevator.

Questions about the information collection requirements may be directed to the person listed in the FOR FURTHER INFORMATION section of this notice.

III. Current Actions

This request for collection of information contains provisions for Performance Reports for MSHA Grants. MSHA has updated the data with respect to the number of respondents, responses, burden hours, and burden costs supporting this information collection request.

Type of Review: New collection.

Agency: Mine Safety and Health Administration.

OMB Number: 1219-0NEW.

Affected Public: State, local or Tribal government, Not-for-profit Institutions.

Number of Respondents: 60.

Frequency: On occasion.

Number of Responses: 300.

Annual Burden Hours: 750 hours.

Annual Respondent or Recordkeeper Cost: $53.

MSHA Forms: MSHA Form 5000-50, MSHA State Grant Program Performance Report.

Comments submitted in response to this notice will be summarized and included in the request for Office of Management and Budget approval of the information collection request; they will also become a matter of public record.

Sheila McConnell,
Certifying Officer.

[FR Doc. 2017-12100 Filed 6-9-17; 8:45 am]

BILLING CODE 4510-43-P